COUNCIL ON ENVIRONMENTAL QUALITY

National Ocean Council—National Ocean Policy Draft Implementation Plan

AGENCY: Council on Environmental Quality.

ACTION: Notice of availability; request for comments.

SUMMARY: On July 19, 2010, President Obama signed Executive Order 13547 establishing a National Policy for the Stewardship of the Ocean, our Coasts, and the Great Lakes (National Ocean Policy). As part of the President's charge for Federal agencies to implement the National Ocean Policy, the National Ocean Council developed actions to achieve the Policy's nine priority objectives, and to address some of the most pressing challenges facing the ocean, our coasts, and the Great Lakes. Collectively, the actions are encompassed in a single draft National Ocean Policy Implementation Plan (Implementation Plan). The draft Implementation Plan describes more than 50 actions the Federal Government will take to improve the health of the ocean, coasts, and Great Lakes, which support tens of millions of jobs, contribute trillions of dollars a year to the national economy, and are essential to public health and national security.

The draft Implementation Plan will ensure the Federal Government targets limited resources more effectively to deliver demonstrable results for the American people, including predictability for users, more efficient and coordinated decision-making, and improved sharing of data and technology. For each action, the Implementation Plan outlines key milestones, identifies responsible agencies, and indicates the expected timeframe for completion.

Experts from the National Ocean Council's member departments, agencies, and offices developed the actions in the draft Implementation Plan with significant input from national, regional, and local stakeholders and the general public. The development process included public comment periods from January through April 2011 and June through July 2011, and 12 regional listening sessions around the country.

Next, public comments on the draft Implementation Plan will inform the preparation of the final plan. We welcome your general input, and also pose the following questions:

• Does the draft Implementation Plan reflect actions you see are needed to address the nine priorities for the ocean, coasts, and the Great lakes?

• What is the most effective way to measure outcomes and to detect whether a particular action in the Implementation Plan has achieved its intended outcome? Would a report card format be useful?

Comments received will be collated and posted on the National Ocean Council Web site. The final Implementation Plan is expected in the spring of 2012.

DATES: The National Ocean Council must receive comments by midnight, February 27, 2012.

ADDRESSES: The draft Implementation Plan and additional information can be found at http://www.WhiteHouse.gov/oceans. Comments should be submitted electronically to http://www.WhiteHouse.gov/oceans. Comments may also be sent in writing to “ATTN: National Ocean Council” by fax to (202) 456-0753, or by mail to National Ocean Council, 722 Jackson Place NW., Washington, DC 20503. Heightened security measures in force may delay mail delivery; therefore, please allow at least two (2) to three (3) weeks of additional time for mailed comments to arrive. We encourage you to also submit comments through the National Ocean Council Web site.

FOR FURTHER INFORMATION CONTACT: Questions about the content of this request may be submitted through the National Ocean Council Web site at http://www.WhiteHouse.gov/administration/eop/oceans/contact or by mail to National Ocean Council, 722 Jackson Place NW., Washington, DC 20503. Please note, heightened security measures in force may delay mail delivery; therefore, we encourage you to also submit questions through the National Ocean Council Web site.

SUPPLEMENTARY INFORMATION: On July 19, 2010, President Obama signed Executive Order 13547 establishing a National Policy for the Stewardship of the Ocean, our Coasts, and the Great Lakes. That Executive Order adopts the Final Recommendations of the Interagency Ocean Policy Task Force and directs Federal agencies to take the appropriate steps to implement them. The Executive Order creates an interagency National Ocean Council to strengthen ocean governance and coordination and identifies nine priority objectives for the National Ocean Council to pursue.

The National Ocean Policy provides a comprehensive approach, based on science and technology, to uphold our stewardship responsibilities and ensure accountability for our actions to present and future generations. The Obama Administration intends, through the National Ocean Policy, to provide a model of balanced, productive, efficient, sustainable, and informed ocean, coastal, and Great Lakes use, management, and conservation.

The National Ocean Policy describes a clear set of priority objectives, listed below, that our Nation should pursue to address some of the most pressing challenges facing the ocean, our coasts, and the Great Lakes. Additional information about each priority may be found at http://www.WhiteHouse.gov/oceans.

Ecosystem-Based Management: Adopt ecosystem-based management as a foundational principle for the comprehensive management of the ocean, our coasts, and the Great Lakes;

Inform Decisions and Improve Understanding: Increase knowledge to continually inform and improve management and policy decisions and the capacity to respond to change and challenges. Better educate the public through formal and informal programs about the ocean, our coasts, and the Great Lakes;

Observations, Mapping, and Infrastructure: Strengthen and integrate Federal and non-Federal ocean observing systems, sensors, data collection platforms, data management, and mapping capabilities into a national system and integrate that system into international observation efforts;

Coordinate and Support: Better coordinate and support Federal, State, Tribal, local, and regional management of the ocean, our coasts, and the Great Lakes. Improve coordination and integration across the Federal Government and, as appropriate, engage with the international community;

Regional Ecosystem Protection and Restoration: Establish and implement an integrated ecosystem protection and restoration strategy that is science-based and aligns conservation and restoration goals at the Federal, State, Tribal, local, and regional levels;

Resiliency and Adaptation to Climate Change and Ocean Acidification: Strengthen resiliency of coastal communities and marine and Great Lakes environments, and their abilities to adapt to climate change impacts and ocean acidification;

Water Quality and Sustainable Practices on Land: Enhance water quality in the ocean, along our coasts, and in the Great Lakes by promoting and implementing sustainable practices on land;

Changing Conditions in the Arctic: Address environmental stewardship needs in the Arctic Ocean and adjacent coastal areas in the face of climate-induced and other environmental changes; and

Coastal and Marine Spatial Planning: Implement comprehensive, integrated, ecosystem-based coastal and marine spatial planning and management in the United States.

The draft Implementation Plan addresses each of these priority objectives through actions and milestones Federal agencies will undertake to deliver tangible results to the American people on the vitality and availability of ocean, coastal, and Great Lakes resources. The National Ocean Council will assess and review the Implementation Plan on a regular basis, and modify it as needed based on the success or failure of the agreed upon actions.

The National Ocean Policy neither establishes any new regulations nor restricts any ocean uses or activities. The National Ocean Policy does not supersede or alter any existing Federal, State, Tribal, or local authority. Accordingly, the Implementation Plan will be carried out under existing domestic legal authority and in accordance with customary international law, including as reflected in the Law of the Sea Convention, and with treaties and other international agreements to which the United States is a party.

Dated: January 11, 2012.
Nancy H. Sutley,
Chair.

[FR Doc. 2012-840 Filed 1-17-12; 8:45 am]

BILLING CODE 3225-F2-P